DEPARTMENT OF TRANSPORTATION

Federal Aviation Administration

Acceptance of Noise Exposure Maps for Hilo International Airport, Hilo, Hawaii

AGENCY: Federal Aviation Administration, Department of Transportation.

ACTION: Notice.

SUMMARY: The Federal Aviation Administration (FAA) announces its determination that the Noise Exposure Maps submitted by the State of Hawaii, Department of Transportation for the Hilo International Airport, Hilo, Hawaii, under the provisions of Title I of the Aviation Safety and Noise Abatement Act of 1979 (Pub. L. 96-193) and Title 14, Code of Federal Regulations, part 150, are in compliance with applicable requirements.

EFFECTIVE DATE: The effective date of the FAA's acceptance of the Noise Exposure Maps for Hilo International Airport is November 28, 2000.

FOR FURTHER INFORMATION CONTACT: David J. Welhouse, Airport Planner, Honolulu Airports District Office, Federal Aviation Administration. Mailing Address: Box 50244, Honolulu, Hawaii 96850. Street Address: 300 Ala Moana Blvd, Room 7-128, Honolulu, Hawaii 96813. Telephone (808) 541-1243.

SUPPLEMENTARY INFORMATION: This notice announces that the FAA finds that the Noise Exposure Maps submitted for Hilo International Airport are in compliance with the applicable requirements of Title 14, Code of Federal Regulations, part 150 (hereafter referred to as “FAR part 150”), effective November 28, 2000.

Under section 103 of Title I of the Aviation Safety and Noise Abatement Act of 1979 (hereafter referred to as “the Act”), an airport operator may submit to the FAA Noise Exposure Maps which meet applicable regulations and which depict noncompatible land uses as of the date of submission of such maps, a description projected aircraft operations, and the ways in which such operations will affect such maps. The Act requires such maps to be developed in consultation with interested and affected parties in the local community, government agencies, and persons using the airport.

An airport operator who has submitted Noise Exposure Maps that are found by FAA to be in compliance with the requirements of FAR part 150, promulgated pursuant to Title I of the Act, may submit a Noise Compatibility Program for FAA approval which sets forth the measures the operator has taken or proposes for the reduction of existing noncompatible uses and for the prevention of the introduction of additional noncompatible uses.

The FAA has completed its review of the Noise Exposure Maps and supporting documentation submitted by the State of Hawaii, Department of Transportation. The specific maps under consideration are Figure 4-1, Base Year (2000) Noise Exposure Map, and Figure 5-1, Five Year (2005) Noise Exposure Map (No Mitigation Scenario), in the submission. The FAA has determined that these maps for Hilo International Airport are in compliance with applicable requirements. This determination is effective on November 28, 2000. FAA's acceptance of an airport operator's Noise Exposure Maps is limited to a finding that the maps were developed in accordance with the procedures contained in Appendix A of FAR part 150. Such acceptance does not constitute approval of the applicant's data, information or plans, or a commitment to approve a Noise Compatibility Program or to fund the implementation of that program.

If questions arise concerning the precise relationship of specific properties to noise exposure contours depicted on a Noise Exposure Map submitted under section 103 of the Act, it should be noted that the FAA is not involved in any way in determining the relative locations of specific properties with regard to the depicted noise contours, or in interpreting the Noise Exposure Maps to resolve questions concerning, for example, which properties should be covered by the provisions of section 107 of the Act. These functions are inseparable from the ultimate land use control and planning responsibilities of local government. These local responsibilities are not changed in any way under part 150 or through FAA's review of Noise Exposure Maps. Therefore, the responsibility for the detained overlaying of noise exposure on tours onto the map depicting properties on the surface rests exclusively with the airport operator which submitted those maps, or with those public agencies and planning agencies with which consultation is required under section 103 of the Act. The FAA has relied on the certification by the airport operator, under § 150.21 of FAR part 150, that the statutorily required consultation has been accomplished.

Copies of the Noise Exposure Maps and of the FAA's evaluation of the maps are available for examination at the following locations:

Federal Aviation Administration, 800 Independence Avenue, SW., Room 617, Washington, DC 20591

Federal Aviation Administration, Western-Pacific Region, Airports Division, AWP-600, 15999 Aviation Blvd., Room 3012, Hawthorne, California 90261

Federal Aviation Administration, Honolulu Airports District Office, 300 Ala Moana Boulevard, Room 7-128, Honolulu, Hawaii 96813

State of Hawaii, Department of Transportation, Airports Division, Honolulu International Airport Division, Honolulu International Airport, 400 Rodgers Boulevard, Suite 700, Honolulu, Hawaii 96819

State of Hawaii, Department of Transportation, Airports Division, Assistant District Office Manager, Hilo International Airport, Hilo, Hawaii 96720

Questions may be directed to the individual named above under the heading, FOR FURTHER INFORMATION CONTACT.

Issued in Hawthorne, California on November 28, 2000.
Herman C. Bliss,
Manager, Airports Division, AWP-600, Western-Pacific Region.

[FR Doc. 00-32517 Filed 12-20-00; 8:45 am]

BILLING CODE 4910-13-M